DEPARTMENT OF ENERGY

Federal Energy Regulatory Commission

[Docket No. RM05-4-001]

Interconnection for Wind Energy; Notice of Filing

September 21, 2005.

On September 19, 2005, the North American Electric Reliability Council (NERC) and the American Wind Energy Association (AWEA) filed a joint report describing the final results of their discussions and recommending revisions to the low voltage ride-through provisions of the Commission's Final Rule issued June 2, 2005. Interconnection for Wind Energy, Order No. 661, 111 FERC ¶ 61,353 (2005), 70 FR 34993 (June 16, 2005). By this notice, the Commission is providing interested parties with an opportunity to file comments on NERC and AWEA's report.

Notice is hereby given that comments on the joint report shall be filed on or before October 3, 2005.

Magalie R. Salas,
Secretary.

[FR Doc. E5-5270 Filed 9-27-05; 8:45 am]

BILLING CODE 6717-01-P